DEPARTMENT OF JUSTICE

Notice of Lodging of Consent Decree Under the Comprehensive Environmental Response, Compensation and Liability Act

In accordance with Departmental Policy, 28 U.S.C. 50.7, notice is hereby given that on July 1, 2003, a proposed Consent Decree in United States v. David Pascale, et al., Civil Action No. 96-3774 (HAA) was lodged with the United States District Court for the District of New Jersey.

In this action the United States sought cost recovery with respect to the Grand Street Mercury Superfund Site, locate in Hoboken, New Jersey (“the Site”), under the Comprehensive Environmental Response, Compensation and Liability Act (“CERCLA”) against David P. Pascale, John J. Pascale, now deceased and represented by his estate, the Grand Street Artists (a New Jersey Partnership) and the individual former residents of the converted industrial facility (collectively, the “Settling Defendants”). Under the terms of the proposed settlement, the Settling Defendants will pay $3,924,844 to reimburse the United States and the State of New Jersey for costs incurred at the Site.

The Department of Justice will receive for a period of thirty (30) days from the date of this publication comments relating to the Consent Decree. Comments should be addressed to the Assistant Attorney General, Environment and Natural Resources Division, P.O. Box 7611, U.S. Department of Justice, Washington, DC 20044-7611, and should refer to United States v. Davis Pascale, D.J. Ref. 90-11-3-1769/1.

The Consent Decree may be examined at the Office of the United States Attorney, 970 Broad Street, 7th Floor, Newark, New Jersey, 07102, and at U.S. EPA Region II, 290 Broadway, 17th Floor, New York, New York, 10007-1866. During the public comment period, the Consent Decree, may also be examined on the following Department of Justice Web site, http://www.usdoj.gov/enrd/open.html. A copy of the Consent Decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. In requesting a copy from the Consent Decree Library, please enclose a check in the amount of $5.75 (25 cents per page reproduction cost-not including the individual residents' signature pages) payable to the U.S. Treasury.

Ronald Gluck,
Assistant Chief, Environmental Enforcement Section, Environment and Natural Resources Division.

[FR Doc. 03-17413 Filed 7-9-03; 8:45 am]

BILLING CODE 4410-15-M